DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: March 20, 2016.
Roy E. Wright,
Deputy Associate Administrator for Insurance and Mitigation, Department of Homeland Security, Federal Emergency Management Agency.

State and county | Location and case No. | Chief executive officer of community | Community map repository | Effective date of modification | Community No.
Alabama:
Baldwin (FEMA Docket No.: B-1554) | City of Foley (15-04-7975P) | The Honorable John E. Koniar, Mayor, City of Foley, P.O. Box 1750, Foley, AL 36535 | City Hall, 407 East Laurel Avenue, Foley, AL 36535 | Feb. 18, 2016 | 010007
Tuscaloosa (FEMA Docket No.: B-1554) | City of Tuscaloosa (15-04-6987P) | The Honorable Walter Maddox, Mayor, City of Tuscaloosa, P.O. Box 2089, Tuscaloosa, AL 35401 | Engineering Department, 2201 University Boulevard, Tuscaloosa, AL 35401 | Feb. 17, 2016 | 010203
Arkansas:
Benton. (FEMA Docket No.: B-1555) | Unincorporated areas of Benton County (15-06-2411P) | The Honorable Robert D. Clinard, Benton County Judge, 215 East Central Avenue, Bentonville, AR 72712 | Benton County Planning Department, 905 Northwest 8th Street, Bentonville, AR 72712 | Feb. 18, 2016 | 050419
Pulaski (FEMA Docket No.: B-1554) | City of North Little Rock (15-06-3972P) | The Honorable Joe Smith, Mayor, City of North Little Rock, P.O. Box 5757, North Little Rock, AR 72119 | Engineering Department, 500 West 13th Street, North Little Rock, AR 72114 | Feb. 11, 2016 | 050182
Colorado:
Denver (FEMA Docket No.: B-1554) | City and County of Denver (15-08-1063P) | The Honorable Michael B. Hancock, Mayor, City and County of Denver, 1437 Bannock Street, Suite 350, Denver, CO 80202 | Department of Public Works, 201 West Colfax Avenue, Denver, CO 80202 | Feb. 29, 2016 | 080046
Eagle (FEMA Docket No.: B-1554) | Unincorporated areas of Eagle County (15-08-0620P) | The Honorable Kathy Chandler-Henry, Chair, Eagle County Board of Commissioners, P.O. Box 850, Eagle, CO 81631 | Eagle County, Engineering Department, 500 Broadway Street, Eagle, CO 81631 | Feb. 12, 2016 | 080051
Florida:
Brevard (FEMA Docket No.: B-1554) | Unincorporated areas of Brevard County (15-04-2643P) | The Honorable Robin Fisher, Chairman, Brevard County Board of Commissioners, District 1, 400 South Street, Suite 1-A, Titusville, FL 32780 | Brevard County Public Works Department, 2725 Judge Fran Jamieson Way, Melbourne, FL 32940 | Feb. 10, 2016 | 125092
Duval (FEMA Docket No.: B-1554) | City of Jacksonville (15-04-5977P) | The Honorable Lenny Curry, Mayor, City of Jacksonville, 117 West Duval Street, Suite 400, Jacksonville, FL 32202 | Development Services Division, 214 North Hogan Street, Room 2100, Jacksonville, FL 32202 | Feb. 23, 2016 | 120077
Hillsborough (FEMA Docket No.: B-1554) | Unincorporated areas of Hillsborough County (15-04-4418P) | The Honorable Sandra L. Murman, Chair, Hillsborough County Board of Commissioners, District 1, 601 East Kennedy Boulevard, Tampa, FL 33602 | Hillsborough County Center, 601 East Kennedy Boulevard, Tampa, FL 33602 | Feb. 17, 2016 | 120112
Lee (FEMA Docket No.: B-1554) | City of Bonita Springs (14-04-8856P) | The Honorable Ben L. Nelson, Jr., Mayor, City of Bonita Springs, 9101 Bonita Beach Road, Bonita Springs, FL 34135 | Community Development Department, 9220 Bonita Beach Road, Bonita Springs, FL 34135 | Feb. 23, 2016 | 120680
Lee (FEMA Docket No.: B-1554) | Unincorporated areas of Lee County (15-04-5434P) | The Honorable Brian Hamman, Chairman, Lee County Board of Commissioners, District 4, P.O. Box 398, Fort Myers, FL 33902 | Lee County Community Development Department, 1500 Monroe Street, Fort Meyers, FL 33901 | Feb. 12, 2016 | 125124
Monroe (FEMA Docket No.: B-1554) | Unincorporated areas of Monroe County (15-04-8109P) | The Honorable Danny Kolhage, Mayor, Monroe County Board of Commissioners, 530 Whitehead Street, Suite 102, Key West, FL 33040 | Monroe County Building Department, 2798 Overseas Highway, Suite 300, Marathon, FL 33050 | Feb. 10, 2016 | 125129
Monroe (FEMA Docket No.: B-1554) | Unincorporated areas of Monroe County (15-04-9028P) | The Honorable Danny Kolhage, Mayor, Monroe County Board of Commissioners, 530 Whitehead Street, Suite 102, Key West, FL 33040 | Monroe County Building Department, 2798 Overseas Highway, Suite 300, Marathon, FL 33050 | Feb. 22, 2016 | 125129
Orange (FEMA Docket No.: B-1554) | City of Orlando (15-04-1761P) | The Honorable Buddy Dyer, Mayor, City of Orlando, P.O. Box 4990, Orlando, FL 32802 | Permitting Services Division, 400 South Orange Avenue, Orlando, FL 32839 | Feb. 11, 2016 | 120186
Sarasota (FEMA Docket No.: B-1554) | City of Sarasota (15-04-6953P) | The Honorable Willie Charles Shaw, Mayor, City of Sarasota, 1565 1st Street, Room 101, Sarasota, FL 34236 | Building Department, 1565 1st Street, Sarasota, FL 34236 | Feb. 26, 2016 | 125150
Georgia:
Columbia (FEMA Docket No.: B-1554) | Unincorporated areas of Columbia County (15-04-3830P) | The Honorable Ron C. Cross, Chairman, Columbia County Board of Commissioners, P.O. Box 498, Evans, GA 30809 | Columbia County Engineering Services Department, 630 Ronald Reagan Drive, Building A, East Wing, Evans, GA 30809 | Feb. 18, 2016 | 130059
Columbia (FEMA Docket No.: B-1554) | Unincorporated areas of Columbia County (15-04-8626P) | The Honorable Ron C. Cross, Chairman, Columbia County Board of Commissioners, P.O. Box 498, Evans, GA 30809 | Columbia County Engineering Services Department, 630 Ronald Reagan Drive, Building A, East Wing, Evans, GA 30809 | Feb. 18, 2016 | 130059
Kentucky: Jefferson (FEMA Docket No.: B-1554) | Louisville-Jefferson County Metro Government (15-04-6547P) | The Honorable Greg Fischer, Mayor, City of Louisville, 527 West Jefferson Street, 4th Floor, Louisville, KY 40202 | Metropolitan Sewer District, 700 West Liberty Street, Louisville, KY 40202 | Feb. 11, 2016 | 210120
Massachusetts:
Bristol (FEMA Docket No.: B-1554) | Town of North Attleborough (15-01-1818P) | The Honorable Paul Belham, Sr., Chairman, Town of North Attleborough Selectmen, 43 South Washington Street, North Attleborough, MA 02760 | Public Works Department, 49 Whiting Street, North Attleborough, MA 02760 | Feb. 17, 2016 | 250059
Essex (FEMA Docket No.: B-1554) | City of Newburyport (15-01-1564P) | The Honorable Donna D. Holaday, Mayor, City of Newburyport, 60 Pleasant Street, Newburyport, MA 01950 | City Hall, 60 Pleasant Street, Newburyport, MA 01950 | Feb. 16, 2016 | 250097
Montana: Carbon (FEMA Docket No.: B-1554) | Unincorporated areas of Carbon County (15-08-0428P) | The Honorable John Prinkki, Presiding Officer, Carbon County Board of Commissioners, P.O. Box 887, Red Lodge, MT 59068 | Carbon County, Floodplain Department, P.O. Box 466, Red Lodge, MT 59068 | Feb. 12, 2016 | 300139
Pennsylvania:
Berks (FEMA Docket No.: B-1554) | Borough of Bally (15-03-0023P) | The Honorable Glenn Mutter, President, Borough of Bally Council, 425 Chestnut Street, Bally, PA 19503 | Borough Hall, 425 Chestnut Street, Bally, PA 19503 | Feb. 11, 2016 | 420125
Berks (FEMA Docket No.: B-1554) | Township of Washington (15-03-0023P) | The Honorable James P. Roma, Chairman, Township of Washington Board of Supervisors, 120 Barto Road, Barto, PA 19504 | Township Hall, 120 Barto Road, Barto, PA 19504 | Feb. 11, 2016 | 421383
Bradford (FEMA Docket No.: B-1555) | Borough of Towanda (14-03-3276P) | The Honorable Paul Sweitzer, President, Borough of Towanda Council, 724 Main Street, Towanda, PA 18848 | Municipal Building, 724 Main Street, Towanda, PA 18848 | Feb. 25, 2016 | 420178
Chester (FEMA Docket No.: B-1554) | Township of Caln, (15-03-2049P) | The Honorable John D. Contento, President, Township of Caln, Board of Commissioners, 253 Municipal Drive, Thorndale, PA 19372 | Township Municipal Building, 253 Municipal Drive, Thorndale, PA 19372 | Feb. 16, 2016 | 422247
South Carolina: Charleston (FEMA Docket No.: B-1554) | Unincorporated areas of Charleston County (15-04-8691P) | The Honorable J. Elliot Summey, Chairman, Charleston County Board of Commissioners, 4045 Bridgeview Drive, Suite B254, North Charleston, SC 29405 | Charleston County, Building Inspection Services Division, 4045 Bridgeview Drive, Suite A311, North Charleston, SC 29405 | Feb. 22, 2016 | 455413
Texas:
Houston (FEMA Docket No.: B-1554) | City of Houston (14-06-2581P) | The Honorable Annise D. Parker, Mayor, City of Houston, P.O. Box 1562, Houston, TX 77251 | Floodplain Management Office, 1002 Washington Avenue, 3rd Floor, Houston, TX 77002 | Feb. 12, 2016 | 480296
Midland (FEMA Docket No.: B-1555) | City of Midland (15-06-2420P) | The Honorable Jerry Morales, Mayor, City of Midland, 300 North Loraine Street, Midland, TX 79701 | City Hall, 300 North Loraine Street, Midland, TX 79701 | Feb 3, 2016 | 480477
Montgomery (FEMA Docket No.: B-1554) | Unincorporated areas of Montgomery County (14-06-2160P) | The Honorable Craig Doyal, Montgomery County Judge, 501 North Thompson Street, Suite 401, Conroe, TX 77301 | Montgomery County Permitting Department, 501 North Thompson Street, Suite 100, Conroe, TX 77301 | Feb. 26, 2016 | 480483
Parker (FEMA Docket No.: B-1555) | City of Aledo (15-06-1513P) | The Honorable Kit Marshall, Mayor, City of Aledo, P.O. Box 1, Aledo, TX 76008 | City Hall, 200 Old Annetta Road, Aledo, TX 76008 | Feb 25, 2016 | 481659
Parker (FEMA Docket No.: B-1555) | Unincorporated areas of Parker County (15-06-1513P) | The Honorable Mark Riley, Parker County Judge, 1 Courthouse Square, Weatherford, TX 76086 | Parker County, Emergency Management Department, 215 Trinity Street, Weatherford, TX 76086 | Feb 25, 2016 | 480520
Virginia: Independent City (FEMA Docket No.: B-1555) | City of Virginia Beach (15-03-0388P) | The Honorable William D. Sessoms, Jr., Mayor, City of Virginia Beach, 2401 Courthouse Drive, Virginia Beach, VA 23456 | Department of Public Works, 2405 Courthouse Drive, Virginia Beach, VA 23456 | Feb 29, 2016 | 515531

[FR Doc. 2016-08056 Filed 4-6-16; 8:45 am]

BILLING CODE 9110-12-P